DEPARTMENT OF LABOR

Employment and Training Administration

[TA-W-56,778]

Eagle Picher Automotive, Hillsdale Division, Including On-Site Leased Workers of Hamilton-Ryker, Staffing Solutions and Randstad, Manchester, TN; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on March 25, 2005, applicable to workers of Eagle Picher Automotive, Hillsdale Division, including on-site leased workers of Hamilton-Ryker and Staffing Solutions, Manchester, Tennessee. The notice was published in the Federal Register on May 2, 2005 (70 FR 22711).

At the request of a company official, the Department reviewed the certification for workers of the subject firm. New information shows that leased workers of Randstad were employed on-site at the Manchester, Tennessee location of Eagle Picher Automotive, Hillsdale Division.

Based on these findings, the Department is amending this certification to include leased workers of Randstad working at Eagle Picher Automotive, Hillsdale Division, Manchester, Tennessee.

The intent of the Department's certification is to include all workers employed at Eagle Picher Automotive, Hillsdale Division who was adversely affected by increased imports.

The amended notice applicable to TA-W-56,778 is hereby issued as follows:

“All workers of the Hillsdale Division of Eagle Picher Automotive, including on-site leased workers of Hamilton-Ryker, Staffing Solutions, and Randstad, Manchester, Tennessee, who became totally or partially separated from employment on or after March 16, 2004, through March 25, 2007, are eligible to apply for adjustment assistance under Section 223 of the Trade Act of 1974, and are also eligible to apply for alternative trade adjustment assistance under Section 246 of the Trade Act of 1974.”

Signed at Washington, DC this 13th day of May 2005.
Richard Church,
Certifying Officer, Division of Trade Adjustment Assistance.

[FR Doc. E5-2644 Filed 5-24-05; 8:45 am]

BILLING CODE 4510-30-P